DEPARTMENT OF COMMERCE

United States Patent and Trademark Office

Submission for OMB Review; Comment Request; “Patent Review and Derivation Proceedings”

The United States Patent and Trademark Office (USPTO) will submit to the Office of Management and Budget (OMB) for clearance the following proposal for collection of information under the provisions of the Paperwork Reduction Act (44 U.S.C. Chapter 35).

Agency: United States Patent and Trademark Office, Commerce

Title: Patent Review and Derivation Proceedings.

Form Number(s): N/A.

Type of Request: Regular.

Number of Respondents: 11.994 responses per year.

Average Hours per Response: The USPTO estimates that it will take the public between an estimated 6 minutes (0.10 hours) to 165.30 hours to complete an individual form in this collection.

Burden Hours: 1,474,449 hours.

Cost Burden: $54,307,175 per year.

Needs and Uses: The public will use this information collection to petition the Board to seek the institution of—and to participate in—inter partes reviews, post-grant reviews, covered business method patent reviews, and derivation proceedings.

The Board disseminated information that it collections (unless filed under seal) through various publications and databases. This information collection includes the filings of the parties and decisions and orders by the Board in trials and derivation proceedings.

Opinions authored by the Board have varying degrees of authority attached to them. There are precedential opinions which, when published, are binding and provide the criteria and authority that the Board will use to decide all other factually similar cases (until the opinion is overruled or changed by statute). There are informative opinions, which are non-precedential and illustrate the norms of Board decision-making for the public. There are representative opinions, which are non-precedential and are publicly available opinions that are not designed as precedential or informative. Since public policy favors a widespread publication of opinions, the Board publishes all publicly available opinions, even if the opinions are not binding precedent upon the Board.

Affected Public: Businesses or other for-profits; not-for-profit institutions.

Frequency: On occasion.

Respondent's Obligation: Required to Obtain or Retain Benefits.

OMB Desk Officer: Nicholas A. Fraser, email: Nicholas_A._Fraser@omb.eop.gov.

Once submitted, the request will be publically available in electronic format through www.reginfo.gov. Follow the instructions to view Department of Commerce collections currently under review by OMB.

Further information can be obtained by:

• Email: InformationCollection@uspto.gov. Include “0651-0069 copy request” in the subject line of the message.

• Mail: Marcie Lovett, Records and Information Governance Division Director, Office of the Chief Administrative Officer, United States Patent and Trademark Office, P.O. Box 1450, Alexandria, VA 22313-1450.

Written comments and recommendations for the proposed information collection should be sent on or before December 21, 2018 to Nicholas A. Fraser, OMB Desk Officer, via email to Nicholas_A._Fraser@omb.eop.gov, or by fax to 202-395-5167, marked to the attention of Nicholas A. Fraser.

Marcie Lovett,
Records Management Division Director, USPTO, Office of the Chief Administrative Officer.

[FR Doc. 2018-25409 Filed 11-20-18; 8:45 am]

BILLING CODE 3510-16-P